ARCHITECTURAL AND TRANSPORTATION BARRIERS COMPLIANCE BOARD

36 CFR Parts 1193 and 1194

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, time, and location of the second committee meeting, which will be open to the public.

DATES: The meeting is scheduled for November 8 and 9, 2006 (beginning at 9 a.m. and ending at 5 p.m. each day). Notices of future meetings will be published in the Federal Register.

ADDRESSES: The meeting will be held at the U.S. Department of Education, Potomac Center Plaza, 10th Floor Auditorium, 550 12th Street, SW., Washington, DC 20202.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Telecommunications and Electronic and Information Technology Advisory Committee held its first meeting September 27-29, 2006 in Arlington, Virginia at the National Science Foundation. The Board organized this Committee to review its standards for electronic and information technology covered by section 508 of the Rehabilitation Act and to provide recommendations on how they should be updated. The Committee will also address updating the Board's guidelines for telecommunications products covered by section 255 of the Telecommunications Act.

At the first meeting, the Board provided a briefing on regulations governing committees of this type under the Federal Advisory Committee Act. The Committee reviewed and approved protocols that will govern its work and meetings. The Committee's objectives, milestones, subcommittee structure, and meeting schedule were also discussed. Members heard presentations and panel discussions on issues that need to be explored as recommended by government, consumer, and industry representatives. Information was provided on various accessibility initiatives in the U.S. and abroad relating to electronic and information technology. This included updates on efforts to develop standards by the European Union, the Japanese Standards Association, Industry Canada, and Australia's Human Rights and Equal Opportunity Commission.

Prior to its first meeting, over 120 organizations applied to serve on the Committee. In order to keep the Committee to a size that can be effective, it was necessary to limit membership. It is also important to have balance among members of the Committee representing different clusters of interest, such as disability organizations and the technology industry. Some organizations that were not accepted asked that their applications be reconsidered. Additionally, some organizations learned about the Committee too late to submit an application. Accordingly, time was set aside at the first meeting to allow organizations to submit an application directly to the committee to be considered for membership. At the first meeting, 10 organizations applied to the Committee to be considered for membership. One organization, AOL LLC, was added.

In keeping with the Committee's protocols, as adopted at its first meeting, there will be time set aside on the agenda during the November meeting to allow additional organizations to have their applications considered. This is currently scheduled for Friday, November 9 at approximately 2:30 p.m. Organizations seeking to be added to the Committee are encouraged to contact Timothy Creagan prior to the meeting (see contact information, above).

A draft meeting agenda and other information about the Committee, including tentative future meeting dates and information on subcommittees are available on the Access Board's Web site (http://www.access-board.gov/sec508/update-index.htm) or at a special Web site created for the Committee's work (http://teitac.org). The site includes a calendar for the subcommittee meetings, e-mail distribution lists, and a “Wiki” (http://teitac.org/wiki/TEITAC_Wiki) which provides interactive online work space.

Committee meetings are open to the public and interested persons can attend the meetings and communicate their views. Members of the public will have an opportunity to address the Committee on issues of interest to them and the Committee during public comment periods scheduled on each day of the meeting. Members of groups or individuals who are not members of the Committee are invited to participate on subcommittees that were formed at the first meeting. The Access Board believes that participation of this kind is very valuable to the advisory committee process.

The meeting site is accessible to individuals with disabilities. Sign language interpreters and real-time captioning will be provided in the main committee meeting room. Due to logistical issues regarding the available space in smaller meeting rooms which may be used for breakout sessions, it is essential that individuals who require sign language interpreters or real-time captioning, contact Timothy Creagan by November 2, 2006 (see contact information, above).

For the comfort of other participants, persons attending Committee meetings are requested to refrain from using perfume, cologne, and other fragrances. Due to security measures at the Department of Education, all attendees must notify Timothy Creagan of their intent to attend the meeting (see contact information, above). Pre-registration is required for expeditious entry into the facility and will enable the Board to provide additional information as needed.

Lawrence Roffee,
Executive Director.

[FR Doc. E6-17758 Filed 10-23-06; 8:45 am]

BILLING CODE 8150-01-P